DEPARTMENT OF COMMERCE

National Oceanic and Atmospheric Administration

RIN 0648-XG242

Fisheries of the Northeastern United States; Bluefish Fishery; Scoping Process

AGENCY: National Marine Fisheries Service (NMFS), National Oceanic and Atmospheric Administration (NOAA), Commerce.

ACTION: Notice of intent to prepare an environmental impact statement; notice of initiation of scoping process; notice of public scoping meetings; requests for comments.

SUMMARY: The Mid-Atlantic Fishery Management Council announces its intent to prepare, in cooperation with NMFS and the Atlantic States Marine Fisheries Commission, an amendment to the Fishery Management Plan for Bluefish. An environmental impact statement may be necessary for the amendment in accordance with the National Environmental Policy Act to analyze the impacts of any proposed management measures. The Council has initiated this amendment in order to perform a review of the sector-based allocations, commercial allocations to the states, goals and objectives of the fishery management plan, and quota transfer processes.

This notice announces a public process for determining the scope of issues to be addressed, and for identifying the significant issues related to the bluefish fishery in the Greater Atlantic region. This notice is to alert the interested public of the scoping process, the potential development of a draft environmental impact statement, and to provide for public participation in that process.

DATES: Written comments must be received on or before 11:59 p.m., EST, on July 6, 2018. Twelve public scoping meetings will be held during this comment period. See SUPPLEMENTARY INFORMATION for dates, times, and locations.

ADDRESSES: Written comments may be sent by any of the following methods:

• Email to the following address: nmfs.garBluefishAmend@noaa.gov. Include “Bluefish Allocation Amendment Scoping Comments” in the subject line;

• Mail or hand deliver to Dr. Christopher M. Moore, Executive Director, Mid-Atlantic Fishery Management Council, 800 North State Street, Suite 201, Dover, Delaware 19901. Mark the outside of the envelope “Bluefish Allocation Amendment Scoping Comments”; or

• Fax to (302) 674-5399

The scoping document may be obtained from the Council office at the previously provided address, or by request to the Council by telephone (302) 674-2331, or via the internet at http://www.mafmc.org.

Comments may also be provided verbally at any of the 12 public scoping meetings. See SUPPLEMENTARY INFORMATION for dates, times, and locations.

FOR FURTHER INFORMATION CONTACT: Dr. Christopher M. Moore, Mid-Atlantic Fishery Management Council, 800 North State Street, Suite 201, Dover, DE 19901, (telephone 302-674-2331).

SUPPLEMENTARY INFORMATION:

Background

More details on the topics addressed in this supplementary information section may be found in the Bluefish Allocation Amendment Scoping Document (see ADDRESSES for how to obtain scoping document) and on the bluefish allocation amendment page of the Council's website at http://www.mafmc.org/actions/bluefish-allocation-amendment.

The Council, in cooperation with the Atlantic States Marine Fisheries Commission (ASMFC), has initiated this action in order to: (1) Update the Atlantic Bluefish Fishery Management Plan (FMP) goals and objectives for bluefish management; and (2) perform a comprehensive review of the bluefish sector allocations, commercial allocations to the states, and transfer processes within the FMP. This action was proposed so that the FMP goals and objectives, allocations, and transfer processes can be assessed in light of potential changing fishery conditions and aligned better with stakeholder priorities. Some management questions for consideration in this amendment include: (1) Are the existing goals and objectives appropriate for managing the bluefish fishery; (2) is the existing allocation between the commercial and recreational sectors based on the annual catch limit appropriate for managing the bluefish fishery; (3) are the existing commercial state allocations appropriate for managing the bluefish fishery; and (4) are the existing transfer processes appropriate for managing the bluefish fishery?

The scoping period is an important opportunity for members of the public to raise concerns related to the scope of issues that will be considered in the amendment. The Council needs your input to identify management issues, develop effective alternatives, and identify possible impacts to be considered. Public comments early in the amendment development process will help the Council address issues of public concern in a thorough and appropriate manner. Comments can be made in writing or during the scoping hearings as described above (see ADDRESSES).

Following the scoping process, the Council will develop a range of management alternatives to be considered and potentially prepare an environmental impact statement (EIS) to analyze the impacts of the management alternatives being considered as required by the National Environmental Policy Act (NEPA). A draft EIS will be distributed for public review. During a 30-day public comment period which will include public hearings, the public may comment on any aspect of the draft EIS. Following a review of the comments, the Council will then choose preferred management measures for submission with the Final EIS to the Secretary of Commerce for publishing of a proposed and then final rule, both of which have additional comment periods.

Scoping Hearings

The Council will take and discuss scoping comments on this amendment at the following 12 scoping meetings dates and locations:

Date | Address
Wednesday, June 20, 2018, at 6:00 p.m | Dare County Commissioners Office, 954 Marshall Collins Drive, Room 168, Manteo, North Carolina 27954.
Thursday, June 21, 2018, at 6:00 p.m | NC Division of Marine Fisheries Central District Office, 5285 Highway 70 West, Morehead City, North Carolina.
Thursday, June 21, 2018, at 6:00 p.m | DNREC Auditorium, 89 Kings Highway, Dover, Delaware 19901.
Tuesday, June 26, 2018, at 6:30 p.m | NYSDEC Division of Marine Resources, 205 North Belle Mead Road, Suite 1, East Setauket, New York 11733.
Tuesday, June 26, 2018, at 6:00 p.m | Ocean City Municipal Airport, 12724 Airport Road, Berlin, Maryland 21811.
Wednesday, June 27, 2018, at 6:00 p.m | Ocean City Library, 1735 Simpson Avenue, Ocean City, New Jersey 08226.
Thursday, June 28, 2018, at 6:00 p.m | Ocean County Administration Building, 101 Hooper Avenue, Toms River, New Jersey 08753.
Thursday, June 28, 2018, at 6:00 p.m | Brevard County Government Center North, “Brevard Room”, 518 South Palm Ave., Titusville, Florida 32780.
Tuesday, July 10, 2018, at 7:00 p.m | CT DEEP Boating Education Center, 333 Ferry Road, Old Lyme, Connecticut 06371.
Wednesday, July 11, 2018, at 6:00 p.m | Plymouth Public Library, Otto Fehlow Room, 132 South Street, Plymouth, Massachusetts.
Thursday, July 12, 2018, at 6:00 p.m | URI Narragansett Bay Campus, Corless Auditorium, South Ferry Road, Narragansett, Rhode Island.
Monday, July 16, 2018, at 6:00 p.m | Internet webinar: Connection information to be available at http://www.mafmc.org or by contacting the Council.

Special Accommodations

The scoping hearings are accessible to people with disabilities. Requests for sign language interpretation or other auxiliary aid should be directed to M. Jan Saunders (302-674-2331, ext 251) at least 5 days prior to the meeting date.

Authority: 16 U.S.C. 1801 et seq.

Dated: May 31, 2018.
Jennifer M. Wallace,
Acting Director, Office of Sustainable Fisheries, National Marine Fisheries Service.

[FR Doc. 2018-12105 Filed 6-5-18; 8:45 am]

BILLING CODE 3510-22-P